DEPARTMENT OF ENERGY

Federal Energy Regulatory Commission

[Docket No. IC17-10-000]

Commission Information Collection Activities (FERC Form No. 2 and FERC Form No. 2-A); Comment Request

AGENCY: Federal Energy Regulatory Commission, Department of Energy.

ACTION: Comment request.

SUMMARY: In compliance with the requirements of the Paperwork Reduction Act of 1995, the Federal Energy Regulatory Commission (Commission or FERC) is submitting its information collection [FERC Form No. 2 (Major Natural Gas Pipeline Annual Report) and FERC Form No. 2-A (Non-major Natural Gas Pipeline Annual Report).] to the Office of Management and Budget (OMB) for review of the information collection requirements. Any interested person may file comments directly with OMB and should address a copy of those comments to the Commission as explained below. The Commission previously issued a Notice April 11, 2017, in the Federal Register requesting public comments. The Commission received no comments on these collections and is making this notation in its submittal to OMB.

DATES: Comments on the collections of information are due by August 21, 2017.

ADDRESSES: Comments filed with OMB, identified by the OMB Control Nos. 1902-0028 and 1902-0030, should be sent via email to the Office of Information and Regulatory Affairs: oira_submission@omb.gov. Attention: Federal Energy Regulatory Commission Desk Officer. The Desk Officer may also be reached via telephone at 202-395-0710.

A copy of the comments should also be sent to the Commission, in Docket No. IC17-10-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC Form No. 2 (Annual Report of Major Natural Gas Companies) and FERC Form No. 2-A (Annual Report of Non-major Natural Gas Companies).¹

¹ The FERC Form No. 2 and Form 2-A are also part of the Forms Refresh effort (started in Docket No. AD15-11), which is a separate activity and not addressed in this Notice.

OMB Control Nos.: 1902-0028 (FERC Form No. 2) and 1902-0030 (FERC Form No. 2-A).

Type of Request: Three-year extension of the FERC Form No. 2 and FERC Form No. 2-A information collection requirements with no changes to the reporting requirements.

Abstract: Pursuant to sections 8, 10 and 14 of the National Gas Act (NGA), (15 U.S.C. 717g-717m, Pub. L. 75-688), the Commission is authorized to make investigations and collect and record data, to prescribe rules and regulations concerning accounts, records and memoranda as necessary or appropriate for purposes of administering the NGA. The Commission includes the filing requirements in 18 CFR parts 260.1 and 260.2.

The forms provide information concerning a company's past performance. The information is compiled using a standard chart of accounts contained in the Commission's Uniform System of Accounts (USofA).² The forms contain schedules which include a basic set of financial statements: Comparative Balance Sheet, Statement of Income and Retained Earnings, Statement of Cash Flows, and the Statement of Comprehensive Income and Hedging Activities. Supporting schedules containing supplementary information are filed, including revenues and the related quantities of products sold or transported; account balances for various operating and maintenance expenses; selected plant cost data; and other information.

² See 18 CFR part 201.

The information collected in the forms is used by Commission staff, state regulatory agencies and others in the review of the financial condition of regulated companies. The information is also used in various rate proceedings, industry analyses and in the Commission's audit programs and, as appropriate, for the computation of annual charges based on Page 520 of the forms. The Commission provides the information to the public, interveners and all interested parties to assist in the proceedings before the Commission.

Print versions of the Forms No. 2 and 2-A are located on the Commission's Web site at http://www.ferc.gov/docs-filing/forms.asp#2 and http://www.ferc.gov/docs-filing/forms.asp#2a respectively.

Type of Respondents: Each natural gas company whose combined gas transported or stored for a fee exceeds 50 million dekatherms in each of the previous three years must file the Form 2. Each natural gas company not meeting the filing threshold for the Form 2 but having total gas sales or volume transactions exceeding 200,000 dekatherms in each of the previous three calendar years must submit the Form 2-A.

Estimate of Annual Burden ³: The Commission estimates the annual public reporting burden for the information collections as:

³ Burden is the total time, effort, or financial resources expended by persons to generate, maintain, retain, or disclose or provide information to or for a Federal agency. For further explanation of what is included in the information collection burden, refer to Title 5 Code of Federal Regulations 1320.3.

⁴ The estimates for cost per response are derived using the following formula: 2017 Average Burden Hours per Response * $76.50 per Hour = Average Cost per Response. The hourly cost figure of $76.50 is the average FERC employee wage plus benefits. We assume that respondents earn at a similar rate.

FERC Form No. 2: Annual Report of Major Natural Gas Companies and FERC Form No. 2-A: Annual Report of Non-Major Natural Gas Companies
| Number of respondents | Annual number of responses per respondent | Total number of responses | Average burden and cost per response ⁴ | Total annual burden and total annual cost | Cost per respondent ($)
| (1) | (2) | (1) * (2) = (3) | (4) | (3) * (4) = (5) | (5) ÷ (1)
FERC Form No. 2 | 92 | 1 | 92 | 1,629 hrs.; $124,619 | 149,868 hrs.; $11,464,902 | $124,619
FERC Form No. 2-A | 66 | 1 | 66 | 253.39 hrs.; 19,384 | 16,724 hrs.; $1,279,366 | $19,384

Comments: Comments are invited on: (1) Whether the collections of information is necessary for the proper performance of the functions of the Commission, including whether the information will have practical utility; (2) the accuracy of the agency's estimates of the burden and costs of the collections of information, including the validity of the methodologies and assumptions used; (3) ways to enhance the quality, utility and clarity of the information collections; and (4) ways to minimize the burden of the collections of information on those who are to respond, including the use of automated collection techniques or other forms of information technology.

Dated: July 13, 2017.
Kimberly D. Bose,
Secretary.

[FR Doc. 2017-15243 Filed 7-19-17; 8:45 am]

BILLING CODE 6717-01-P